SECURITIES AND EXCHANGE COMMISSION

[Release No. 34-60211; File No. SR-Phlx-2009-51]

Self-Regulatory Organizations; NASDAQ OMX PHLX, Inc.; Notice of Filing and Immediate Effectiveness of Proposed Rule Change Relating to the Extension of the Penny Pilot Program

Correction

In notice document E9-16179 beginning on page 33001 in the issue of Thursday, July 9, 2009, make the following correction:

The docket number is corrected to read as set forth above.

[FR Doc. Z9-16179 Filed 7-27-09; 8:45 am]

BILLING CODE 1505-01-D